DEPARTMENT OF COMMERCE

National Oceanic and Atmospheric Administration

50 CFR Part 660

[RTID 0648-XD471]

Fisheries Off West Coast States; West Coast Salmon Fisheries; Amendment 24 to the Pacific Coast Salmon Fishery Management Plan

AGENCY: National Marine Fisheries Service (NMFS), National Oceanic and Atmospheric Administration (NOAA), Commerce.

ACTION: Announcement of availability of proposed fishery management plan amendment; request for comments.

SUMMARY: The Pacific Fishery Management Council (Council) has submitted Amendment 24 to the Pacific Coast Salmon Fishery Management Plan (Salmon FMP) to the Secretary of Commerce for review. The intent of Amendment 24 is to clarify the technical process for reviewing updates to the models used to determine the Chinook salmon abundance threshold that may trigger additional management measures to limit the impact of ocean salmon fisheries on Southern Resident killer whales (SRKW). The whales are listed under the Endangered Species Act (ESA) and Chinook salmon, some of which are listed as threatened under the ESA, are their preferred prey. This action is administrative in nature and does not change the formula for calculating the threshold or the fishery management responses currently described in the Salmon FMP.

DATES: Comments on Amendment 24 must be received by January 26, 2024.

ADDRESSES: You may submit comments on Amendment 24, identified by NOAA-NMFS-2023-0105, by the following method:

• Electronic Submissions: Submit all electronic public comments via the Federal e-Rulemaking Portal. Go to https://www.regulations.gov and enter NOAA-NMFS-2023-0105 in the Search box. Click the “Comment” icon, complete the required fields, and enter or attach your comments.

Instructions: Comments must be submitted by the above method to ensure that the comments are received, documented, and considered by NMFS by the applicable deadlines. Comments sent by any other method, to any other address or individual, or received after the end of the comment period, may not be considered. All comments received are a part of the public record and will generally be posted for public viewing on https://www.regulations.gov without change. All personal identifying information (e.g., name, address, etc.) submitted voluntarily by the sender will be publicly accessible. Do not submit confidential business information, or otherwise sensitive or protected information. NMFS will accept anonymous comments (enter “N/A” in the required fields if you wish to remain anonymous).

The draft Salmon FMP, as amended through Amendment 24, with notations showing how Amendment 24 would change the Salmon FMP, if approved, is available on the NMFS website at https://www.fisheries.noaa.gov/action/fisheries-west-coast-states-west-coast-salmon-fisheries-amendment-24-pacific-coast-salmon.

FOR FURTHER INFORMATION CONTACT: Shannon Penna at 562-980-4239, Shannon.Penna@noaa.gov.

SUPPLEMENTARY INFORMATION:

Background

The ocean salmon fisheries in the exclusive economic zone (3-200 nautical miles; 5.6-370.4 kilometers) off Washington, Oregon, and California are managed under the Pacific Coast Salmon Fishery Management Plan (Salmon FMP). The Magnuson-Stevens Fishery Conservation and Management Act (MSA) requires that each regional fishery management council submit any fishery management plan (FMP) or plan amendment it prepares to NMFS for review and approval, disapproval, or partial approval by the Secretary of Commerce (Secretary) (MSA section 304(a)). The MSA also requires that NMFS, upon receiving a proposed FMP or plan amendment, immediately publish a notice that the FMP or plan amendment is available for public review and comment. Publication occurs on or before the fifth day after the day on which a Council transmits to the Secretary a FMP or plan amendment. This document announces that proposed Amendment 24 to the Salmon FMP is available for public review and comment. NMFS will consider the public comments received during the comment period described above in determining whether to approve, partially approve, or disapprove Amendment 24 to the Salmon FMP.

In November 2020, the Pacific Fishery Management Council (Council) adopted management measures for Southern Resident killer whales (SRKW) under Amendment 21 (86 FR 51017, September 14, 2021) to the Salmon FMP. The Salmon FMP was amended by adding Section 6.6.8 which describes provisions to limit the impacts of the Council-managed ocean salmon fisheries on SRKW by limiting the extent to which they reduce Chinook salmon prey availability for SRKW. Amendment 21 established a Chinook salmon abundance threshold (threshold) for U.S. waters north of Cape Falcon, Oregon and if preseason projections of abundance in a given year are less than the threshold, then a list of management actions will be implemented through the management measures for ocean salmon fisheries that year.

In April 2022, the Salmon Technical Team and Scientific and Statistical Committee conducted a technical review of updates to the models that inform the threshold. During this review, it became apparent that the language in Section 6.6.8 describing the process, roles and responsibilities for reviewing model updates and using the updated models to update the threshold, and the appropriate depth of review was unclear. In November 2022, the Council adopted a revised threshold value to account for the model updates. At the same time, the Council tasked NMFS and Council staff to evaluate the description in the Salmon FMP of the process for the technical review and suggest clarifying language to improve the process. Based on this evaluation, in November 2023, the Council adopted the recommended changes for the Salmon FMP.

If approved, Amendment 24 to the Salmon FMP would clarify the process for review of updates to the models, and the recalculation of the threshold value based on updated model information, by revising Section 6.6.8 of the Salmon FMP. The revised text would not change the approach used to calculate the threshold.

Amendment 24 also includes some minor housekeeping edits, such as updates to references and correction of a species name.

All comments received by the end of the comment period (see DATES and ADDRESSES above) will be considered in the Secretary's decision to approve, disapprove, or partially approve Amendment 24. To be considered in this decision, comments must be received by close of business on the last day of the comment period; that does not mean postmarked or otherwise transmitted by that date.

Authority: 16 U.S.C. 1801 et seq.

Dated: November 20, 2023.
Kelly Denit,
Director, Office of Sustainable Fisheries, National Marine Fisheries Service.

[FR Doc. 2023-25997 Filed 11-24-23; 8:45 am]

BILLING CODE 3510-22-P